DEPARTMENT OF ENERGY

Federal Energy Regulatory Commission

[Project No. 2212-059]

Domtar Paper Company, LLC; Notice of Revised Schedule for Environmental Assessment

On August 27, 2024, and supplemented on February 28, 2025, March 14, 2025, September 30, 2025, and November 7, 2025, Domtar Paper Company, LLC (licensee) filed an application for a non-capacity amendment for the Rothschild Hydroelectric Project No. 2212. The project is located on the Wisconsin River in Marathon County, Wisconsin. The project does not occupy any federal lands.

The licensee requests a non-capacity amendment of its license to replace the existing timber crib spillway section with two hydraulically actuated overhead hinged crest gates mounted on a reinforced concrete crest structure with reinforced concrete piers. Additionally, a reinforced concrete labyrinth crest structure and reinforced concrete stilling basins would be constructed for both spillways. The new spillway is expected to have similar hydraulic capacity to the timber crib spillway. The licensee does not intend to draw down the reservoir during construction, which is expected to take approximately three and a half years to complete.

On June 26, 2025, the Commission issued a Notice of Intent that informed the public that Commission staff plans to issue an Environmental Assessment (EA) ¹ by February 23, 2026. Commission staff is revising the schedule to issue an EA by December 12, 2025. The EA will be issued for a 30-day comment period. Revisions to the schedule may be made as appropriate. All comments filed on the EA will be reviewed by staff and considered in the Commission's final decision on the proceeding.

¹ The unique identification number for documents relating to this environmental review is EAXX-019-20-000-1750232650.

For public inquiries and assistance with making filings such as interventions, comments, or requests for rehearing, contact the Office of Public Participation at (202) 502-6595 or OPP@ferc.gov.

Any questions regarding this notice may be directed to Aneela Mousam at (202) 502-8357 or aneela.mousam@ferc.gov.

(Authority: 18 CFR 2.1)

Dated: November 25, 2025.
Debbie-Anne A. Reese,
Secretary.

[FR Doc. 2025-21708 Filed 11-28-25; 8:45 am]

BILLING CODE 6717-01-P